DEPARTMENT OF COMMERCE

National Oceanic and Atmospheric Administration

[I.D. 010203B]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Ecosystems Committee, Squid, Mackerel and Butterfish Committee, Law Enforcement Committee, Highly Migratory Species Ad-Hoc Committee, and Executive Committee will hold a public meeting.

DATES: Tuesday, January 21, 2003, through Thursday, January 23, 2003. On Tuesday, January 21, 2003, the Ecosystems Committee will meet from noon until 2 p.m. The Squid, Mackerel and Butterfish Committee will meet from 2-5 p.m. On Wednesday, January 22, 2003, the Law Enforcement Committee will meet from 8:30-9:30 a.m. Council will meet from 9:30 a.m. until 4:00 p.m. On Thursday, January 23, 2003, the Highly Migratory Species Ad-Hoc Committee will meet from 8-9 a.m. The Executive Committee will meet from 9-10 a.m. Council convenes from 10 a.m. until 4 p.m.

ADDRESSES: This meeting will be held at the Trump Plaza Hotel, Mississippi Avenue and the Boardwalk, Atlantic City, NJ, telephone 609-441-2708.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the Council's committees and the Council itself are: the Ecosystems Committee will discuss Council's role in identifying and addressing NMFS habitat/bycatch requirements; the Squid, Mackerel and Butterfish Committee will discuss and finalize measures to be included in Amendment 9 (gear impacts on EFH, Illex fishery moratorium, multiple year specification process, bycatch/discard reduction in Loligo fishery, and “other”); the Law Enforcement Committee will review the Fisheries Achievement Award Program and discuss background investigation needs/limitations regarding Council members and advisors; Council will conduct a scoping meeting for Amendment 1 to the Dogfish Fishery Management Plan (consider, among other management measures, the following items for inclusion in Amendment 1: define a rebuilding biomass target for Bmsy, establish rebuilding timeframe consistent with Section 304(e) of the Magnuson-Stevens Act, address bycatch/discard issues, address different allocation processes, “other”); approve Amendment 13 to the Surfclam and Ocean Quahog Fishery Management Plan for Secretarial submission; the Highly Migratory Species Ad-Hoc Committee will discuss establishment of a permanent sub-quota allocation of bluefin tuna for North Carolina during December 1 through January 31 time period; Council will receive and discuss organizational and committee reports including the New England Council's report regarding possible actions on herring, groundfish, monkfish, red crab, scallops, skates, and whiting; and, act on any continuing and/or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at least 5 days prior to the meeting date.

Dated: January 2, 2003.
Richard W. Surdi,
Acting Director, Office of Sustainable Fisheries, National Marine Fisheries Service.

[FR Doc. 03-276 Filed 1-6-03; 8:45 am]

BILLING CODE 3510-22-S